Proclamation 7790 of May 21, 2004

National Safe Boating Week, 2004

By the President of the United States of America

A Proclamation

Our Nation's many waterways give millions of boating enthusiasts the opportunity to enjoy the outdoors and spend time with family and friends. With nearly 13 million recreational boats on our oceans, lakes, and rivers, boating is a popular pastime. However, far too many Americans are hurt or killed each year in boating accidents that are largely preventable.

Each year, of the thousands of boating accidents that occur, many are caused by operators who are careless, reckless, or inexperienced. In most cases, boat operators had received no safety instruction, and many of those who died could have been saved if they had worn life jackets. During National Safe Boating week, we seek to raise awareness to improve safety and reduce accidents on our Nation's waters.

Across the Nation, many groups are working to teach recreational boaters how they can make boating safer through the 2004 North American Safe Boating Campaign. These include the U.S. Coast Guard, the Coast Guard Auxiliary, the National Safe Boating Council, and the National Association of State Boating Law Administrators. These groups recommend that boaters get boat safety checks, ensure that boats are properly maintained, take safe boating classes, be aware of homeland security issues, always wear a life jacket, and never operate a boat under the influence of alcohol or drugs. By learning about boating safety and taking some simple precautions, recreational boaters can reduce the risk of accidents and ensure that they enjoy their time on the water responsibly.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 22 through May 28, 2004, as National Safe Boating Week. I encourage the Governors of the 50 States and the Commonwealth of Puerto Rico, and officials of other areas subject to the jurisdiction of the United States, to join in observing this occasion. I also urge all boaters to learn more about safe boating practices, always wear life jackets, and take advantage of boating safety programs throughout the year.

IN WITNESS WHEREOF, I have hereunto set my hand this twenty-first day of May, in the year of our Lord two thousand four, and of the Independence of the United States of America the two hundred and twenty-eighth.

B

[FR Doc. 04-12072

Filed 5-25-04; 8:45 am]

Billing code 3195-01-P